DEPARTMENT OF TRANSPORTATION

National Highway Traffic Safety Administration

Reports, Forms, and Record Keeping Requirements: Agency Information Collection Activity Under OMB Review

AGENCY: National Highway Traffic Safety Administration (NHTSA), U.S. Department of Transportation (DOT).

ACTION: Notice.

SUMMARY: In compliance with the Paperwork Reduction Act of 1995, this notice announces that the Information Collection Request (ICR) abstracted below will be submitted to the Office of Management and Budget (OMB) for review and comment. The ICR describes the nature of the information collection and the expected burden. The Federal Register notice with a 60-day comment period was published on December 7, 2016.

DATES: Comments must be submitted on or before September 8, 2017.

ADDRESSES: Send comments, within 30 days, to the Office of Information and Regulatory Affairs, Office of Management and Budget, 725 17th Street NW., Washington, DC 20503, Attention NHTSA Desk Officer.

FOR FURTHER INFORMATION CONTACT: Jeremy Gunderson, Office of Safety Programs (NPD-210), National Highway Traffic Safety Administration, 1200 New Jersey Avenue SE., W44-213, Washington, DC 20590. Mr. Gunderson's telephone number is 202-366-0521 and his email address is Jeremy.Gunderson@dot.gov.

SUPPLEMENTARY INFORMATION:

Title: Education on Proper Use of Seat Belts on School Buses.

OMB Control Number: None.

Type of Request: New information collection requirement.

Type of Review: Regular.

Abstract: Between 2004 and 2015, an average of six school-age children per year were killed in collisions while riding in a school bus. The National Highway Traffic Safety Administration is undertaking a project to understand the factors considered by state and local agencies when deciding whether to require seat belts on school buses and the funding mechanisms that are used to pay for seat belt installation. To accomplish this, NHTSA proposes to conduct discussions and informal interviews to identify school districts that have seat belts on school buses and to gather information on both implementation and funding mechanisms. NHTSA also recognizes the importance of reaching out to school districts who do not currently require seat belts in order to gain a broader picture of the priorities and challenges that jurisdictions face. Therefore, NHTSA will also be gathering feedback from school districts that are not considering implementation, or are considering but struggling to implement, as their perspectives will be helpful in developing model policies. These discussions will be held via telephone, email, and/or in-person throughout the course of the project. The findings will be used to develop a model policy and a best practices guide to assist jurisdictions that are considering a requirement regarding seat belts on school buses.

The project also aims to obtain data related to the effect that seat belt use may have on school bus driver distraction. Therefore, NHTSA proposes to conduct a Web-based survey to gather information about bus driver distraction as related to student behavior and seat belt use to see if the use of seat belts has influenced disruptive behavior. The project will culminate with a report to explain the findings.

Affected Public: In order to identify school districts who have implemented, or are planning to implement, seat belts on their school buses, NHTSA will reach out to organizations such as the National Association of State Directors of Pupil Transportation Services (NASDPTS), the National Association of Pupil Transportation (NAPT), the National School Transportation Association (NSTA), American School Bus Council (ASBC), and school bus manufacturers and dealers. NHTSA anticipates contacting approximately 100 individuals across the country to ask general questions related to seat belt use in their jurisdictions. To the extent possible, NHTSA will also identify appropriate contact(s) in each school district.

NHTSA will reach out to school districts who have agreed to provide the agency with more information on their decisions to require seat belts on school buses and the funding mechanisms that are used to pay for seat belt installation. Informational interviews will be conducted with approximately 25 people, including State directors of pupil transportation and local school district professionals, to identify policy components that influence seat belt acquisition and use. Participants for the Web-based survey will include school bus drivers from participating school districts. NHTSA expects to distribute the survey to one or more bus drivers in each of the school districts that participate in the aforementioned interview.

Estimated Total Annual Burden: 133 hours total; approximately 44 hours per year.

The initial discussions would take approximately 5 minutes with 100 people for a total of 8 hours. The informational interviews with school districts would take an average of approximately 4 hours with 25 people for a total of 100 hours. (In some cases, the necessary information may be retrieved through a one-time telephone or in-person discussion, while in other cases discussions may continue via telephone and email as an on-going discussion throughout the course of the project as school districts provide additional information). The bus driver survey would take 15 minutes with approximately 100 people for a total of 25 hours.

Comments Are Invited on the Following

i. Whether the proposed collection of information is necessary for the proper performance of the functions of the agency, including whether the information will have practical utility;

ii. the accuracy of the agency's estimate of the burden of the proposed information collection;

iii. ways to enhance the quality, utility, and clarity of the information to be collected; and

iv. ways to minimize the burden of the collection of information on respondents, including the use of automated collection techniques or other forms of information technology.

A comment to OMB is most effective if OMB receives it within 30 days of publication.

Authority: 44 U.S.C. Section 3506(c)(2)(A)

Issued on: August 1, 2017.
Jeff Michael,
Associate Administrator, Research and Program Development.

[FR Doc. 2017-16602 Filed 8-8-17; 8:45 am]

BILLING CODE 4910-59-P